DEPARTMENT OF THE INTERIOR

Fish and Wildlife Service

[FWS-R8-ES-2019-N039; FXES11130800000-190-FF08E00000]

Endangered and Threatened Wildlife and Plants; Initiation of 5-Year Status Reviews of 58 Species in California, Nevada, and the Klamath Basin of Oregon

AGENCY: Fish and Wildlife Service, Interior.

ACTION: Notice of initiation of reviews; request for information.

SUMMARY: We, the U.S. Fish and Wildlife Service, are initiating 5-year status reviews of 58 species in California, Nevada, and the Klamath Basin of Oregon under the Endangered Species Act. A 5-year review is based on the best scientific and commercial data available at the time of the review; therefore, we are requesting submission of any new information on these species that has become available since the last review.

DATES: To ensure consideration in our reviews, we are requesting submission of new information no later than September 24, 2019. However, we will continue to accept new information about any species at any time.

ADDRESSES: For how and where to send information, see Request for New Information.

FOR FURTHER INFORMATION CONTACT: For whom to contact for species-specific information, see Request for New Information. Individuals who are hearing impaired or speech impaired may call the Federal Relay Service at 800-877-8337 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2)(A) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented to benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Status | States where the species is known to occur | Final Listing rule (Federal Register citation and publication date) | Lead fish and wildlife office
Animals
Butterfly, Behren's silverspot | Speyeria zerene behrensii | E | CA | 62 FR 64306; 12/5/1997 | Arcata Fish and Wildlife Office.
Butterfly, lotis blue | Lycaeides argyrognomon lotis | E | CA | 41 FR 22041; 6/1/1976 | Arcata Fish and Wildlife Office.
Kangaroo rat, San Bernardino Merriam's | Dipodomys merriami parvus | E | CA | 63 FR 51005; 9/24/1998 | Carlsbad Fish and Wildlife Office.
Rail, light-footed clapper | Rallus longirostris levipes | E | CA | 34 FR 5034, 3/8/1969; 35 FR 16047; 10/13/1970 | Carlsbad Fish and Wildlife Office.
Chub, Mohave tui | Gila bicolor mohavensis | E | CA | 35 FR 16047; 10/13/1970 | Carlsbad Fish and Wildlife Office.
Trout, Paiute cutthroat | Oncorhynchus clarkii seleniris | T | CA | 32 FR 4001; 3/11/1967; 40 FR 29863, 7/16/1975 | Reno Fish and Wildlife Office.
Fox, San Joaquin kit | Vulpes macrotis mutica | E | CA | 32 FR 4001; 3/11/1967 | Sacramento Fish and Wildlife Office.
Kangaroo rat, Fresno | Dipodomys nitratoides exilis | E | CA | 50 FR 4222; 1/30/1985 | Sacramento Fish and Wildlife Office.
Kangaroo rat, giant | Dipodomys ingens | E | CA | 52 FR 283; 1/5/1987 | Sacramento Fish and Wildlife Office.
Kangaroo rat, Tipton | Dipodomys nitratoides nitratoides | E | CA | 53 FR 25608; 7/8/1988 | Sacramento Fish and Wildlife Office.
Lizard, blunt-nosed leopard | Gambelia silus | E | CA | 32 FR 4001; 3/11/1967 | Sacramento Fish and Wildlife Office.
Moth, Kern primrose sphinx | Euproserpinus euterpe | T | CA | 45 FR 24088; 4/8/1980 | Sacramento Fish and Wildlife Office.
Rabbit, riparian brush | Sylvilagus bachmani riparius | E | CA | 65 FR 8881; 2/23/2000 | Sacramento Fish and Wildlife Office.
Shrew, Buena Vista Lake | Sorex ornatus relictus | E | CA | 67 FR 10101; 3/6/2002 | Sacramento Fish and Wildlife Office.
Snake, giant garter | Thamnophis gigas | T | CA | 58 FR 54053; 10/20/1993 | Sacramento Fish and Wildlife Office.
Snake, San Francisco garter | Thamnophis sirtalis tetrataenia | E | CA | 32 FR 4001; 3/11/1967 | Sacramento Fish and Wildlife Office.
Whipsnake, Alameda (=striped racer) | Masticophis lateralis euryxanthus | T | CA | 62 FR 64306; 12/5/1997 | Sacramento Fish and Wildlife Office.
Woodrat, riparian (=San Joaquin Valley) | Neotoma fuscipes riparia | E | CA | 65 FR 8881; 2/23/2000 | Sacramento Fish and Wildlife Office.
Mouse, salt marsh harvest | Reithrodontomys raviventris | E | CA | 35 FR 16047; 10/13/1970 | San Francisco Bay-Delta Fish and Wildlife Office.
Dace, Ash Meadows speckled | Rhinichthys osculus nevadensis | E | NV | 47 FR 19995; 5/10/1982; 48 FR 608, 1/5/1983; 48 FR 40178, 9/2/1983 | Southern Nevada Fish and Wildlife Office.
Naucorid, Ash Meadows | Ambrysus amargosus | T | NV | 50 FR 20777; 5/20/1985 | Southern Nevada Fish and Wildlife Office.
Pupfish, Ash Meadows Amargosa | Cyprinodon nevadensis mionectes | E | NV | 47 FR 19995; 5/10/1982; 48 FR 608, 1/5/1983; 48 FR 40178, 9/2/1983 | Southern Nevada Fish and Wildlife Office.
Pupfish, Warm Springs | Cyprinodon nevadensis pectoralis | E | NV | 35 FR 16047; 10/13/1970 | Southern Nevada Fish and Wildlife Office.
Otter, southern sea | Enhydra lutris nereis | T | CA, Mexico | 42 FR 2965; 1/14/1977 | Ventura Fish and Wildlife Office.
Beetle, Ohlone tiger | Cicindela ohlone | E | CA | 66 FR 50340; 10/3/2001 | Ventura Fish and Wildlife Office.
Salamander, Santa Cruz long-toed | Ambystoma macrodactylum croceum | E | CA | 32 FR 4001; 3/11/1967 | Ventura Fish and Wildlife Office.
Plants
Rock-cress, McDonald's | Arabis macdonaldiana | E | CA, OR | 43 FR 44810; 9/28/1978 | Arcata Fish and Wildlife Office.
Wallflower, Menzies' | Erysimum menziesii | E | CA | 57 FR 27848; 6/22/1992 | Arcata Fish and Wildlife Office.
Bird's-beak, salt marsh | Cordylanthus maritimus ssp. maritimus | E | CA, Mexico | 43 FR 44810; 10/29/1978 | Carlsbad Fish and Wildlife Office.
Bush-mallow, San Clemente Island | Malacothamnus clementinus | E | CA | 42 FR 40682; 8/11/1977 | Carlsbad Fish and Wildlife Office.
Paintbrush, San Clemente Island | Castilleja grisea | T | CA | 42 FR 40682; 8/11/1977; 78 FR 45406; 7/26/2013 | Carlsbad Fish and Wildlife Office.
Larkspur, San Clemente Island | Delphinium variegatum ssp. kinkiense | E | CA | 42 FR 40682; 8/11/1977 | Carlsbad Fish and Wildlife Office.
Lotus, San Clemente Island | Acmispon dendroideus var. traskiae (=Lotus d. ssp. traskiae) | T | CA | 42 FR 40682; 8/11/1977 | Carlsbad Fish and Wildlife Office.
Milk-vetch, triple-ribbed | Astragalus tricarinatus | E | CA | 63 FR 53596; 10/6/1998 | Carlsbad Fish and Wildlife Office.
Rock-cress, Santa Cruz Island | Sibara filifolia | E | CA | 62 FR 42692; 8/8/1997 | Carlsbad Fish and Wildlife Office.
Woodland-star, San Clemente Island | Lithophragma maximum | E | CA | 62 FR 42692; 8/8/1997 | Carlsbad Fish and Wildlife Office.
Cactus, Bakersfield | Opuntia treleasei | E | CA | 55 FR 29361; 7/19/1990 | Sacramento Fish and Wildlife Office.
Checker-mallow, Keck's | Sidalcea keckii | E | CA | 65 FR 7757; 2/16/2000 | Sacramento Fish and Wildlife Office.
Jewelflower, California | Caulanthus californicus | E | CA | 55 FR 29361; 7/19/1990 | Sacramento Fish and Wildlife Office.
Mallow, Kern | Eremalche kernensis | E | CA | 55 FR 29361; 7/19/1990 | Sacramento Fish and Wildlife Office.
Wooly-threads, San Joaquin | Monolopia (=Lembertia) congdonii | E | CA | 55 FR 29361; 7/19/1990 | Sacramento Fish and Wildlife Office.
Blazing-star, Ash Meadows | Mentzelia leucophylla | T | NV | 50 FR 20777; 5/20/1985 | Southern Nevada Fish and Wildlife Office.
Centaury, spring-loving | Centaurium namophilum | T | NV | 50 FR 20777; 5/20/1985 | Southern Nevada Fish and Wildlife Office.
Gumplant, Ash Meadows | Grindelia fraxino-pratensis | T | NV | 50 FR 20777; 5/20/1985 | Southern Nevada Fish and Wildlife Office.
Ivesia, Ash Meadows | Ivesia kingii var. eremica | T | NV | 50 FR 20777; 5/20/1985 | Southern Nevada Fish and Wildlife Office.
Milk-vetch, Ash meadows | Astragalus phoenix | T | NV | 50 FR 20777; 5/20/1985 | Southern Nevada Fish and Wildlife Office.
Niterwort, Amargosa | Nitrophila mohavensis | E | NV | 50 FR 20777; 5/20/1985 | Southern Nevada Fish and Wildlife Office.
Sunray, Ash Meadows | Enceliopsis nudicaulis var. corrugata | T | NV | 50 FR 20777; 5/20/1985 | Southern Nevada Fish and Wildlife Office.
Amole, purple | Chlorogalum purpureum | T | CA | 65 FR 14878; 3/20/2000 | Ventura Fish and Wildlife Office.
Clover, Monterey | Trifolium trichocalyx | E | CA | 63 FR 43100; 8/12/1998 | Ventura Fish and Wildlife Office.
Dudleya, Santa Cruz Island | Dudleya nesiotica | T | CA | 62 FR 40954; 7/31/1997 | Ventura Fish and Wildlife Office.
Gilia, Monterey | Gilia tenuiflora ssp. arenaria | E | CA | 57 FR 27848; 6/22/1992 | Ventura Fish and Wildlife Office.
Milk-vetch, Ventura Marsh | Astragalus pycnostachyus var. lanosissimus | E | CA | 66 FR 27901; 5/21/2001 | Ventura Fish and Wildlife Office.
Pentachaeta, Lyon's | Pentachaeta lyonii | E | CA | 62 FR 4172; 1/29/1997 | Ventura Fish and Wildlife Office.
Polygonum, Scotts Valley | Polygonum hickmanii | E | CA | 68 FR 16979; 4/8/2003 | Ventura Fish and Wildlife Office.
Potentilla, Hickman's | Potentilla hickmanii | E | CA | 63 FR 43100; 8/12/1998 | Ventura Fish and Wildlife Office.
Sandwort, Marsh | Arenaria paludicola | E | CA, WA | 58 FR 41378; 8/3/1993 | Ventura Fish and Wildlife Office.
Spineflower, Monterey | Chorizanthe pungens var. pungens | T | CA | 59 FR 5499; 2/4/1994 | Ventura Fish and Wildlife Office.

Request for New Information

To ensure that a 5-year review is complete and based on the best available scientific and commercial information, we request new information from all sources. See What information do we consider in our review? for specific criteria. If you submit information, please support it with documentation such as maps, bibliographic references, methods used to gather and analyze the data, and/or copies of any pertinent publications, reports, or letters by knowledgeable sources.

To get more information on a species, submit information on a species, or review information we receive, please use the contact information for the Lead Fish and Wildlife Office for the species specified in the table above.

Arcata Fish and Wildlife Office: Kathleen Brubaker, 707-822-7201 (phone); Kathleen_brubaker@fws.gov (email); or 1655 Heindon Road, Arcata, CA 95521 (U.S. mail, hand-delivery, or in-person review of documents);

Carlsbad Fish and Wildlife Office: Bradd Baskerville-Bridges, 760-431-9440 (phone); fw8cfwocomments@fws.gov (email); or 2177 Salk Avenue, Suite 250, Carlsbad, CA 92008 (U.S. mail, hand-delivery, or in-person review of documents);

Reno Fish and Wildlife Office: Shawna Theisen, 775-861-6378 (phone); shawna_theisen@fws.gov (email); or 1340 Financial Boulevard, Suite 234, Reno, NV 89502 (U.S. mail, hand-delivery, or in-person review of documents);

Sacramento Fish and Wildlife Office: Josh Hull, 916-414-6742 (phone); fw8sfwocomments@fws.gov (email); or 2800 Cottage Way, Suite W2605, Sacramento, CA 95825 (U.S. mail, hand-delivery, or in-person review of documents);

San Francisco Bay-Delta Fish and Wildlife Office: Steven Detwiler, 916-930-2640 (phone); steven_detwiler@fws.gov (email); or 650 Capitol Mall, Sacramento, CA 95814 (U.S. mail, hand-delivery, or in-person review of documents);

Southern Nevada Fish and Wildlife Office: Glen Knowles, 702-515-5230 (phone); glen_knowles@fws.gov (email); or 4701 N. Torrey Pines Dr., Las Vegas, NV 89130 (U.S. mail, hand-delivery, or in-person review of documents); or

Ventura Fish and Wildlife Office: Cat Darst, 805-677-3318 (phone); cat_darst@fws.gov (email); or 2493 Portola Road, Suite B, Ventura,+ CA 93003 (U.S. mail, hand-delivery, or in-person review of documents).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices to which the comments are submitted.

Authority

This document is published under the authority of the Endangered Species Act of 1973, as amended (16 U.S.C. 1531 et seq.).

Jody Holzworth,
Deputy Regional Director, Pacific Southwest Region, U.S. Fish and Wildlife Service.

[FR Doc. 2019-15943 Filed 7-25-19; 8:45 am]

BILLING CODE 4333-15-P